NUCLEAR REGULATORY COMMISSION

Deployment of the NRC's Redesigned Public Web Site

AGENCY: Nuclear Regulatory Commission.

ACTION: Notice of availability.

SUMMARY: The Nuclear Regulatory Commission (NRC) plans to deploy its newly redesigned public Web site in a phased approach between now and the end of the year. The redesign gives the Web site a new and consistent look and feel. It is organized by content and topic rather than by NRC organizational structure, uses top-down logic going from the general to specific topics, makes navigation easy, gives greater visibility to frequently accessed information, uses plain language where possible, and complies with Section 508 of the Rehabilitation Act. As a result of the events of September 11, 2001, the NRC shut down its public Web site on October 11 and is conducting a thorough review of the original scope of the redesigned site. This review includes all of the content available at the NRC public Web site prior to October 11. As reviews are completed, NRC will restore content incrementally in the redesigned format.

ADDRESSES: NRC's newly redesigned Web site will be made available at www.nrc.gov. For updates on the planned deployment, see the redesign notice at www.nrc.gov.

FOR FURTHER INFORMATION CONTACT: Walter Oliu, Office of the Chief Information Officer, Mail Stop T-6 E7, U.S. Nuclear Regulatory Commission, Washington, DC 20555-0001, Telephone (301) 415-7823, or e-mail nrcweb@nrc.gov.

SUPPLEMENTARY INFORMATION: As a result of a public meeting to discuss NRC interactions with stakeholders on nuclear material and waste activities, the Commission directed the NRC staff to improve NRC's Web site by (1) reviewing other major Web sites as models for possible improvements to the NRC site; (2) soliciting the views of stakeholders, including members of the general public, researchers, and representatives of the library community; (3) implementing goals for the public site to support NRC's Strategic Plan; and (4) ensuring that the public site is compliant with the Americans With Disabilities Act.

The NRC staff established the following objectives for the external Web site to support the goals of NRC's Strategic Plan: (1) Increase public confidence in the NRC by providing information that enhances the ability of stakeholders to participate effectively in the regulatory process; provide information that enhances the public's understanding of NRC's mission, goals, and performance; make it easy to find desired information; ensure the timeliness and accuracy of information at the site; and (2) make doing business with the NRC more efficient and effective by providing easy access to necessary information and tools for conducting business electronically via the Web.

The NRC formed two groups to provide agencywide input to the redesign effort: a Web Redesign Working Group, composed of staff who currently maintain the NRC's content at our public Web site, and a Web Redesign Steering Committee, composed of senior managers and chaired first by a representative from the Office of Nuclear Reactor Regulation and later by a representative from the Office of Public Affairs.

The NRC staff contracted for a usability analysis of the existing Web site. Stakeholders, including representatives of public interest groups, librarians, licensees, State officials, members of the international nuclear regulatory community, and NRC staff who frequently interact with the public were involved in this process through several focus groups, a usability test at NRC's Regulatory Information Conference, and a Web survey. An expert evaluation of how well NRC's current Web site follows best practices and considers human factors, and how accessible it is to individuals with disabilities (in compliance with Section 508 of the Rehabilitation Act) was also done. In addition, the staff compared NRC's Web site with other highly rated government sites and confirmed that there were significant opportunities to improve the current site's structure and organization, navigability, style, understandability, and accessibility. The recommendations included:

• Create a “common look and feel” for the entire NRC Web site (enforce standards);

• Organize by content and topic rather than by NRC organizational structure;

• Use top-down logic going from the general to the specific;

• Make navigation consistent (links to top-level pages, within-page navigational devices, and links to external non-NRC sites); and

• Comply with Section 508 of the Rehabilitation Act (test pages on multiple platforms and with browsers favored by people with disabilities).

The results of these assessments formed the basis for developing a prototype for the redesigned Web site. The prototype contained improvements adopted from all the recommendations listed above and was reviewed by the NRC Web staff, the Web Redesign Working Group, and the Web Redesign Steering Committee. In addition, NRC collected and evaluated comments on the prototype from stakeholders who were involved in the initial usability study, as well as others. The agency obtained OMB clearance to collect comments from stakeholders. The NRC staff as a whole was also provided an opportunity to comment.

An analysis of the feedback on the prototype indicated that users were more satisfied with the prototype than with NRC's existing public Web site. Many suggestions for further improvements were adopted and implemented for the redesigned site.

As a result of the events of September 11, 2001, the NRC shut down its public Web site on October 11 and is conducting a thorough review of the original scope of the redesigned site. This review includes all document collections available at the NRC public Web site prior to October 11 (over 50,000 pages and nearly all of the other content, over 1,000 pages). As reviews are completed, NRC will restore content incrementally in the redesigned format. Updates on the redesign will be posted at the Web site (www.nrc.gov) as the deployment proceeds.

Dated at Rockville, Maryland this 27th day of November 2001.
For the Nuclear Regulatory Commission.
Stuart Reiter,
Chief Information Officer.

[FR Doc. 01-29874 Filed 11-30-01; 8:45 am]

BILLING CODE 7590-01-P